CONSUMER PRODUCT SAFETY COMMISSION

Sunshine Act Meeting Notice

Time and Date: Monday, November 9, 2009, 1 p.m.-3 p.m.

Place: Hearing Room 420, Bethesda Towers, 4330 East West Highway, Bethesda, Maryland.

Status: Commission Briefing/Meeting—Open to the Public.

Matter To Be Considered:

1. Guidance Document on Testing and Certification

A live webcast of the Briefing/Meeting can be viewed at http://www.cpsc.gov/webcast/index.html.

For a recorded message containing the latest agenda information, call (301) 504-7948.

Contact Person for More Information: Todd A. Stevenson, Office of the Secretary, U.S. Consumer Product Safety Commission, 4330 East West Highway, Bethesda, MD 20814 (301) 504-7923.

Dated: October 30, 2009.
Todd A. Stevenson,
Secretary.

[FR Doc. E9-26734 Filed 11-6-09; 8:45 am]

BILLING CODE 6355-01-M